COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List products and services to be furnished by nonprofit agencies employing persons who are blind or have other severe disabilities, and deletes from the Procurement List products previously furnished by such agencies.

EFFECTIVE DATE: December 8, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions:

On April 26, August 9, August 30, and September 6, 2002, the Committee for Purchase From People Who Are Blind or Severely Disabled published notice (67 F.R. 20726, 51819, 55776, 56981) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products:

Product/NSN: Easel, Wallboard, Magnetic.

7520-00-NIB-1368 (18” x 24”).

7520-00-NIB-1369 (24” x 36”).

7520-00-NIB-1371 (36” x 48”).

NPA: The Lighthouse for the Blind, Inc., Seattle, Washington.

Contract Activity: Office Supplies & Paper Products Acquisition Center, New York, New York.

Services:

Service Type/Location: Janitorial/Custodial, CDC/NIOSH, Spokane Research Laboratory, Spokane, Washington.

NPA: Pre-Vocational Training Center, Spokane, Washington.

Contract Activity: Center for Disease Control-NIOSH, Spokane, Washington.

Service Type/Location: Janitorial/Custodial, U.S. Attorney Building, Springfield, Illinois.

NPA: Challenge Unlimited, Inc., Alton, Illinois.

Contract Activity: GSA Public Buildings Service, Springfield, Illinois.

Service Type/Location: Miscellaneous Support Services, Central Arkansas Veterans Healthcare System, Little Rock/North Little Rock, Arkansas.

NPA: Pathfinder Schools, Inc., Jacksonville, Arkansas.

Contract Activity: Veterans Affairs Medical Center, North Little Rock, Arkansas.

Service Type/Location: Recycling, End of Life Electronics, U.S. Mint, Washington, DC.

NPA: ServiceSource, Inc., Alexandria, Virginia.

Contract Activity: U.S. Mint, Washington, DC.

Service Type/Location: Storage and Distribution Service Springs for DSCP, Defense Supply Center Philadelphia, Philadelphia, Pennsylvania.

NPA: Arizona Industries for the Blind, Phoenix, Arizona.

NPA: Industries of the Blind, Inc., Greensboro, North Carolina.

Contract Activity: Defense Supply Center Philadelphia, Philadelphia, Pennsylvania.

Deletions:

I certify that the following action will not have a significant impact on a substantial number of small entities. The major factors considered for this certification were:

1. The action may not result in any additional reporting, recordkeeping or other compliance requirements for small entities other than the small organizations that will furnish the products to the Government.

2. The action may result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are deleted from the Procurement List:

Products:

Product/NSN: Clamp, Loop.

5340-00-410-2973.

5340-01-120-1320.

5340-01-413-2977.

5340-01-418-5763.

NPA: None currently authorized.

Contract Activity: Defense Supply Center Philadelphia, Philadelphia, Pennsylvania.

Sheryl D. Kennerly,
Director, Information Management.

[FR Doc. 02-28554 Filed 11-7-02; 8:45 am]

BILLING CODE 6353-1-P